DEPARTMENT OF TRANSPORTATION

Federal Highway Administration

Environmental Impact Statement: Merced County, California

AGENCY: Federal Highway Administration (FHWA), DOT.

ACTION: Revised notice of intent.

SUMMARY: The FHWA is issuing this notice to advise the public that an environmental impact statement will be prepared for a proposed expressway project in Merced County, California. A notice for this project was originally issued January 25, 2000. Since that time a refined traffic analysis resulted in modifying the project description. This notice is intended to advertise the changes in the project.

FOR FURTHER INFORMATION CONTACT: Mr. C. Glenn Clinton, Team Leader, Program Delivery Team—North, Federal Highway Administration, California Division, 980 9th Street, Suite 400, Sacramento, CA 95814-2724, Telephone: (916) 498-5020.

SUPPLEMENTARY INFORMATION: The FHWA, in cooperation with the California Department of Transportation (Caltrans) and the Merced County Department of Public Works, will prepare an Environmental Impact Statement (EIS) on a proposal to construct a regional arterial, known as Campus Parkway, in Merced County. The proposed project would involve the construction of a new limited access expressway, between the State Route 99/Mission Avenue Interchange to the south and Yosemite Avenue to the north. The project would be approximately 7.25 kilometers (4.5 miles) in length. The revised project, from Route 99 to Yosemite Avenue, represents the limits necessary to meet projected demand occurring within the twenty-year design horizon (year 2025). North of Yosemite Avenue, transportation demand is not projected to reach a level necessitating further improvements until well beyond 2025. However, a future connection with Bellevue Road represents a logical connection with the existing roadway network that is a reasonably foreseeable action that could occur post 2025. To address cumulative impacts, the EIS will also identify and analyze potential transportation corridors between Yosemite Avenue and Bellevue Road. No construction or right-of-way acquisition north of Yosemite Avenue is proposed to be included as part of this project.

The purpose (focused end result) of the Campus Parkway project is a transportation corridor that supplies sufficient capacity and connectivity to serve the northern and eastern portions of the City of Merced through the year 2025. Alternatives under consideration include: (1) Taking no action; and, (2) constructing a limited access expressway with the appropriate number of lanes to serve the anticipated demand for the design horizon (2025) within the right-of-way necessary to support the number of lanes required for the ultimate build-out of the Merced area. Three alternatives alignments have been identified that will be analyzed in the EIS.

Other proposed projects and actions that are likely to have an impact on the Campus Parkway project will be evaluated, including the potential cumulative impacts of the proposed UC Merced and adjacent University Community.

Public information meetings and a public hearing will be held for this project. A letter advising these meetings and hearing will be sent to appropriate Federal, State, and Local agencies as well as to private organizations and individuals who have expressed an interest in this project. The draft EIS will be available for public and agency review and comment prior to the public hearing. No formal scoping meeting is planned at this time.

To ensure that the full range of issues relate to this proposed action are addressed and all significant issues are identified, comments and suggestions are invited from all interested parties. Comments or questions concerning this proposed action and the EIS should be directed to the FHWA at the address provided above. Comments received that responded to the January 25, 2000 notice will still be addressed, as well as any additional responses received as a result of this notice.

(Catalog of Federal Domestic Assistance program Number 20.205, Highway research, Planning and Construction. The regulations implementing Executive Order 12372 regarding intergovernmental consultation on Federal programs and activities apply to this program)
Issued on: April 12, 2001.
Glenn Clinton,
Team Leader, Program Delivery Team—North Sacramento, California.

[FR Doc. 01-10305 Filed 4-25-01; 8:45 am]

BILLING CODE 4910-22-M